DEPARTMENT OF COMMERCE

National Oceanic and Atmospheric Administration

[RTID 0648-XA886]

Atlantic Highly Migratory Species; Atlantic Shark Management Measures; 2021 Research Fishery

AGENCY: National Marine Fisheries Service (NMFS), National Oceanic and Atmospheric Administration (NOAA), Commerce.

ACTION: Notice of public meeting.

SUMMARY: On November 30, 2020, NMFS published a notice inviting qualified commercial shark permit holders to submit applications to participate in the 2021 Shark Research Fishery. The Shark Research Fishery allows for the collection of fishery-dependent data for future stock assessments and cooperative research with commercial fishermen to meet the shark research objectives of the Agency. Every year, the permit terms and permitted activities (e.g., number of hooks and retention limits) specifically authorized for selected participants in the Shark Research Fishery are designated depending on the scientific and research needs of the Agency, as well as the number of NMFS-approved observers available. In order to inform selected participants of this year's specific permit requirements and ensure all terms and conditions of the permit are met, NMFS is holding a meeting for selected participants. The date and time of that meeting is announced in this notice.

DATES: A conference call will be held on March 22, 2021.

ADDRESSES: A meeting will be conducted. See SUPPLEMENTARY INFORMATION for information on how to access the meeting.

FOR FURTHER INFORMATION CONTACT: Lauren Latchford at (301) 427-8503 or Delisse Ortiz at (240) 681-9037.

SUPPLEMENTARY INFORMATION: The Atlantic shark fisheries are managed under the authority of the Magnuson-Stevens Fishery Conservation and Management Act (Magnuson-Stevens Act). The 2006 Consolidated Atlantic Highly Migratory Species (HMS) Fishery Management Plan (FMP) is implemented by regulations at 50 CFR part 635.

The final rule for Amendment 2 to the 2006 Consolidated HMS FMP (73 FR 35778, June 24, 2008, corrected at 73 FR 40658, July 15, 2008) established, among other things, a shark research fishery to maintain time-series data for stock assessments and to meet NMFS' research objectives. The Shark Research Fishery gathers important scientific data and allows selected commercial fishermen the opportunity to earn more revenue from selling the sharks caught, including sandbar sharks. Only the commercial shark fishermen selected to participate in the Shark Research Fishery are authorized to land/harvest sandbar sharks subject to the sandbar quota available each year. The 2021 base annual sandbar shark quota is 90.7 mt dressed weight (dw). The selected Shark Research Fishery participants also may fish using the research large coastal shark (§ 635.27(b)(1)(iii)(B)), small coastal shark (§ 635.27(b)(1)(i)(C) and (b)(1)(ii)(D)), and pelagic shark quotas (§ 635.27(b)(1)(iii)(D)) subject to the retention limits at § 635.24.

On November 30, 2020 (85 FR 76533), NMFS published a notice inviting qualified commercial shark directed and incidental permit holders to submit an application to participate in the 2021 Shark Research Fishery. NMFS received four applications and selected all four participants. In order to inform selected participants of this year's specific permit requirements and to ensure all terms and conditions of the permit are met, per the requirements of § 635.32(f)(4), NMFS is holding a mandatory permit holder meeting via conference call.

Meeting Date, Time, and Dial-In Number

The conference call will be held on March 22, 2021, from 12:00 to 1:30 p.m. (EDT). Participants and interested parties should join via Webex: https://noaanmfs-meets.webex.com/noaanmfs-meets/onstage/g.php?MTID=e8b3199060b61df77141feb73910a581d.

Event Number: 199 505 0346 Event Password: QMjwQScall or can call in using the conference line 1-415-527-5035 and the passcode 199 505 0346. Selected participants are strongly encouraged to attend. Selected participants who are unable to attend will not be allowed to participate in the Shark Research Fishery until they are able to discuss the terms and conditions of their Shark Research Fishery permit with NMFS staff. Selected participants are encouraged to invite their captain, crew, or anyone else who may assist them in meeting the terms and conditions of the Shark Research Fishery permit to the conference call. Other interested parties may call in and listen to the discussion.

Dated: March 12, 2021.
Jennifer M. Wallace,
Acting Director, Office of Sustainable Fisheries, National Marine Fisheries Service.

[FR Doc. 2021-05553 Filed 3-17-21; 8:45 am]

BILLING CODE 3510-22-P